DEPARTMENT OF COMMERCE

International Trade Administration

[A-475-818]

Certain Pasta From Italy: Preliminary Results of Antidumping Duty Administrative Review and Partial Rescission; 2012-2013

AGENCY: Enforcement and Compliance, International Trade Administration, Department of Commerce.

SUMMARY: In response to requests from interested parties, the Department of Commerce (the Department) is conducting an administrative review of the antidumping duty order on certain pasta (pasta) from Italy,¹ covering the period July 1, 2012, through June 30, 2013. The review covers 10 companies, two of which are mandatory respondents: Rummo S.p.A. Molino e Pastificio and its two affiliates (Rummo S.p.A., Lenta Lavorazione, and Pasta Castiglioni) (collectively, the Rummo Group), and Molino e Pastificio Tomasello S.p.A. (Tomasello). The remaining eight companies were not selected for individual examination.² We preliminarily determine that the Rummo Group made sales of subject merchandise at less than normal value during the period of review (POR), and that Tomasello did not.

¹ See Notice of Antidumping Duty Order and Amended Final Determination of Sales at Less Than Fair Value: Certain Pasta From Italy, 61 FR 38547 (July 24, 1996).

² The eight companies are: Alica srl (Alica); Dalla Costa Alimentare srl; Delverde Industrie Alimentari S.p.A.; Ghigi Industria Agroalimentare in San Clemente srl; Pasta Lensi S.r.l (Lensi); Pasta Zara S.p.A.; Pastificio Toscano srl; Valdigrano di Flavio Pagani S.r.L.

In addition, as noted below, we are rescinding the review of Alica and Lensi. Interested parties are invited to comment on these preliminary results.

DATES: Effective Date: August 25, 2014.

FOR FURTHER INFORMATION CONTACT: Stephanie Moore (Tomasello) or Cindy Robinson (the Rummo Group), AD/CVD Operations, Office III, Enforcement and Compliance, International Trade Administration, U.S. Department of Commerce, 14th Street and Constitution Avenue NW., Washington, DC 20230; telephone: (202) 482-3692 or (202) 482-3797, respectively.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.³

³ For a full description of the scope of the order, see the “Decision Memorandum for the Preliminary Results of Antidumping Duty Administrative Review and Partial Rescission: Certain Pasta from Italy; 2012-2013” from Christian Marsh, Deputy Assistant Secretary for Antidumping and Countervailing Duty Operations, to Ronald K. Lorentzen, Acting Assistant Secretary for Enforcement and Compliance, dated concurrently with this notice (Preliminary Decision Memorandum).

Partial Rescission of the 2012-2013 Administrative Review

On November 26, 2013, and December 10, 2013, respectively, Lensi and Alica timely withdrew their requests for the 2012-2013 administrative review.⁴ In accordance with 19 CFR 351.213(d)(1),⁵ and consistent with our practice,⁶ we are rescinding this review with respect to Alica and Lensi.

⁴ See Lensi's letter dated November 26, 2013, and Alica's letter dated December 10, 2013.

⁵ In accordance with 19 CFR 351.213(d)(1), the Department will rescind an administrative review “if a party that requested the review withdraws the request within 90 days of the date of publication of notice of initiation of the requested review.” The instant review was initiated on August 28, 2013. Therefore, the deadline to withdraw review requests, which included 16 days for the tolling of all deadlines by reason of the government shutdown, was December 12, 2013. See Memorandum for the Record from Paul Piquado, Assistant Secretary for Enforcement and Compliance, regarding “Deadlines Affected by the Shutdown of the Federal Government” (October 18, 2013). Thus, Alica's and Lensi's withdrawal requests are timely.

⁶ See, e.g., Brass Sheet and Strip from Germany: Notice of Rescission of Antidumping Duty Administrative Review, 73 FR 49170 (August 20, 2008); see also Certain Lined Paper Products from India: Notice of Partial Rescission of Antidumping Duty Administrative Review and Extension of Time Limit for the Preliminary Results of Antidumping Duty Administrative Review, 74 FR 21781 (May 11, 2009).

SUPPLEMENTARY INFORMATION:

Methodology

The Department conducted this review in accordance with section 751(a)(2) of the Tariff Act of 1930, as amended (the Act). Constructed export price or export price is calculated in accordance with section 772 of the Act. Normal Value is calculated in accordance with section 773 of the Act. For a full description of the methodology underlying our preliminary results, see Preliminary Decision Memorandum dated concurrently with this notice and hereby adopted by this notice. The Preliminary Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Preliminary Decision Memorandum can be accessed directly on the internet at http://enforcement.trade.gov/frn. The signed Preliminary Decision Memorandum and the electronic version of the Preliminary Decision Memorandum are identical in content.

Preliminary Results of the Review

As a result of this review, we preliminarily determine the following weighted-average dumping margins for the period July 1, 2012, through June 30, 2013:

Producer and/or exporter ⁷ | Weighted- average dumping margin (percent)
Rummo S.p.A. Molino e Pastificio, Rummo S.p.A., Lenta Lavorazione, and Pasta Castiglioni (collectively the Rummo Group) | 8.33.
Molino e Pastificio Tomasello S.p.A | de minimis.
Dalla Costa Alimentare srl | 8.33.
Delverde Industrie Alimentari S.p.A | 8.33.
Ghigi Industria Agroalimentare in San Clemente srl | 8.33.
Valdigrano di Flavio Pagani S.r.L | 8.33.
Pasta Zara S.p.A | 8.33.
Pastificio Toscano srl | 8.33.
⁷ The margin for the non-selected companies was based on the calculated weighted-average margin of the Rummo Group (the sole mandatory respondent receiving an above de minimis margin in theses preliminary results). For further discussion, see the Preliminary Decision Memorandum at 12.

Assessment Rate

Upon issuance of the final results, the Department shall determine, and U.S. Customs and Border Protection (CBP) shall assess, antidumping duties on all appropriate entries covered by this review. If the weighted-average dumping margin for Tomasello or Rummo is not zero or de minimis (i.e., less than 0.5 percent), we will calculate importer-specific ad valorem antidumping duty assessment rates based on the ratio of the total amount of dumping calculated for the importer's examined sales to the total entered value of those same sales in accordance with 19 CFR 351.212(b)(1). We will instruct CBP to assess antidumping duties on all appropriate entries covered by this review when the importer-specific assessment rate calculated in the final results of this review is not zero or de minimis. Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 15.45 percent, the all-others rate established in the antidumping investigation as modified by the section 129 determination.⁸ These cash deposit requirements, when imposed, shall remain in effect until further notice.

⁸ See Implementation of the Findings of the WTO Panel in US—Zeroing (EC): Notice of Determinations Under Section 129 of the Uruguay Round Agreements Act and Revocations and Partial Revocations of Certain Antidumping Duty Orders, 72 FR 25261 (May 4, 2007).

Disclosure and Public Comment

The Department will disclose to parties to this proceeding the calculations performed in reaching the preliminary results within five days of the date of publication of these preliminary results.⁹ Pursuant to 19 CFR 351.309(c), interested parties may submit cases briefs not later than 30 days after the date of publication of this notice. Rebuttal briefs, limited to issues raised in the case briefs, may be filed not later than five days after the date for filing case briefs.¹⁰ Parties who submit comments are requested to submit: (1) A statement of the issue; (2) a brief summary of the argument; and (3) a table of authorities. All briefs must be filed electronically using IA ACCESS. An electronically filed document must be received successfully in its entirety by the Department's electronic records system, IA ACCESS.

⁹ See 19 CFR 351.224(b).

¹⁰ See 19 CFR 351.309(d).

Interested parties who wish to request a hearing, or to participate if one is requested, must submit a written request to the Assistant Secretary for Enforcement and Compliance, U.S. Department of Commerce, using Enforcement and Compliance's IA ACCESS system within 30 days of publication of this notice.¹¹ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹² Parties should confirm by telephone the date, time, and location of the hearing.

¹¹ See 19 CFR 351.310(c).

¹² See 19 CFR 351.310.

Unless the deadline is extended pursuant to section 751(a)(2)(B)(iv) of the Act, the Department will issue the final results of this administrative review, including the results of our analysis of the issues raised by the parties in their case briefs, within 120 days after issuance of these preliminary results.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and increase the subsequent assessment of the antidumping duties by the amount of antidumping duties reimbursed.

These preliminary results of review are issued and published in accordance with sections 751(a)(1) and 777(i)(1) of the Act.

Dated: August 18, 2014.
Ronald K. Lorentzen,
Acting Assistant Secretary for Enforcement and Compliance.

Appendix

List of Topics Discussed in the Preliminary Decision Memorandum

1. Background

2. Scope of the Order

3. Discussion of Methodology

[FR Doc. 2014-20152 Filed 8-22-14; 8:45 am]

BILLING CODE 3510-DS-P